DEPARTMENT OF HOUSING AND URBAN DEVELOPMENT

[Docket No. FR-5376-N-44]

Notice of Submission of Proposed Information Collection to OMB; Emergency Comment Request; HUD Office of Sustainable Housing and Communities—Sustainable Communities Regional Planning Grant Program, Public Law 111-117

AGENCY: Office of Sustainable Housing and Communities, HUD.

ACTION: Notice of proposed information collection.

SUMMARY: The proposed information collection requirement described below has been submitted to the Office of Management and Budget (OMB) for emergency review and approval, as required by the Paperwork Reduction Act. The Department is soliciting public comments on the subject proposal.

DATES: Comments Due Date: June 1, 2010.

ADDRESSES: Interested persons are invited to submit comments regarding this proposal. Comments must be received within seven (7) days from the date of this Notice. Comments should refer to the proposal by name /or OMB approval number and should be sent to: HUD Desk Officer, Office of Management and Budget, New Executive Office Building, Washington, DC 20503; e-mail: OIRA_Submission@omb.eop.gov; fax: (202) 395-5806.

FOR FURTHER INFORMATION CONTACT: Leroy McKinney, Reports Management Officer, QDAM, Department of Housing and Urban Development, 451 Seventh Street, SW., Washington, DC 20410; e-mail: Leroy.MkinneyJR@hud.gov; telephone (202) 402-5564. This is not a toll-free number. Copies of available documents submitted to OMB may be obtained from Mr. McKinney.

SUPPLEMENTARY INFORMATION: This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Office of Sustainable Housing and Communities NOFA Rating Factor Forms.

Description of Information Collection: The Consolidated Appropriations Act, 2010 (Pub. L. 111-117, approved December 16, 2009) (Appropriations Act), made $100 million available for the Sustainable Communities Regional Planning Grant Program to support metropolitan and multijurisdictional planning efforts that integrate housing, land use, economic and workforce development, transportation, and infrastructure investments in a manner that empowers jurisdictions to consider the interdependent challenges of (1) economic competitiveness and revitalization; (2) social equity, inclusion, and access to opportunity; (3) energy use and climate change; and (4) public health and environmental impact.

As part of HUD's Office of Sustainable Housing and Communities Notice of Funding Availability (NOFA) we hope incorporating Rating Factor forms will achieve the following: (1) Facilitate the submission of information as part of the applicant's grant application; (2) ensure that the information submitted is consistent and uniform amongst all applicants; and (3) facilitate the review process when applications are being reviewed, ranked and rated.

OMB Control Number: Pending.

Agency Form Numbers: N/A, the data will be collected via form.

Members of Affected Public: State, Local Government and Non-profit organizations.

Estimation of the total numbers of hours needed to prepare the information collection including number of respondents, frequency of responses, and hours of responses: The estimated number of respondents is 300 and the number of responses is 1. There will be, in total, approximately 300 responses. The total reporting burden is 600 hours.

Status of the Proposed Information Collection: New collection of information for Sustainable Communities Regional Planning Grant Program applicants.

Authority: The Paperwork Reduction Act of 1995, 44 U.S.C. Chapter 35, as amended.

Dated: May 19, 2010.
Leroy McKinney, Jr.,
Departmental Reports Management Officer, Office of the Chief Information Officer.

[FR Doc. 2010-12572 Filed 5-24-10; 8:45 am]

BILLING CODE 4210-67-P